DEPARTMENT OF THE INTERIOR

Bureau of Indian Affairs

25 CFR Chapter I

No Child Left Behind School Facilities and Construction Negotiated Rulemaking Committee—Notice of Meeting

AGENCY: Bureau of Indian Affairs, Interior.

ACTION: Notice of meeting.

SUMMARY: In accordance with the Federal Advisory Committee Act, the Bureau of Indian Affairs is announcing that the No Child Left Behind School Facilities and Construction Negotiated Rulemaking Committee will hold its seventh and final meeting in Washington, DC. The purpose of the meeting is to finalize the language and appearance of a final report to Congress and the Secretary as required under the No Child Left Behind Act of 2001.

DATES: The Committee's seventh meeting will begin at 8 a.m. on September 19, 2011, and end at 12:30 p.m. on September 22, 2011.

ADDRESSES: The meeting will be held at the Residence Inn Capitol Marriott, 333 E Street, SW., Washington, DC 20024.

FOR FURTHER INFORMATION CONTACT: The Designated Federal Official, Michele F. Singer, Director, Office of Regulatory Affairs and Collaborative Action, Office of the Assistant Secretary—Indian Affairs, 1001 Indian School Road, NW., Suite 312, Albuquerque, NM 87104; telephone (505) 563-3805; fax (505) 563-3811.

SUPPLEMENTARY INFORMATION: The No Child Left Behind School Facilities and Construction Negotiated Rulemaking Committee was established to prepare and submit to the Secretary a catalog of the conditions at Bureau-funded schools, and to prepare reports covering: The school replacement and new construction needs at Bureau-funded school facilities; a formula for the equitable distribution of funds to address those needs; a list of major and minor renovation needs at those facilities; and a formula for equitable distribution of funds to address those needs. The reports are to be submitted to Congress and to the Secretary. The Committee also expects to draft proposed regulations covering construction standards for heating, lighting, and cooling in home-living (dormitory) situations.

The following items will be on the agenda:

• Review all suggestions and feedback from five tribal consultation sessions and comment period;

• Discuss and reach consensus on all final recommendations in the reports;

• Finalize language and appearance of final report;

• Discuss implementation proposals for all committee recommendations;

• Meet with and share recommendations with Department of the Interior, Bureau of Indian Affairs, Bureau of Indian Education, and Congressional Officials; and

• Public comments.

Written comments may be sent to the Designated Federal Official listed in the FOR FURTHER INFORMATION CONTACT section above. All meetings are open to the public; however, transportation, lodging, and meals are the responsibility of the participating public.

Dated: August 24, 2011.
Donald E. Laverdure,
Principal Deputy Assistant Secretary—Indian Affairs.

[FR Doc. 2011-22302 Filed 8-30-11; 8:45 am]

BILLING CODE 4310-W7-P